DEPARTMENT OF COMMERCE

National Oceanic and Atmospheric Administration

RIN 0648-AV61

Fisheries of the Caribbean, Gulf of Mexico, and South Atlantic; Amendment 3 to the Fishery Management Plan for the Spiny Lobster Fishery of the Caribbean and Amendment 5 to the Joint Fishery Management Plan for the Spiny Lobster Fishery of the Gulf of Mexico and South Atlantic

AGENCY: National Marine Fisheries Service (NMFS), National Oceanic and Atmospheric Administration (NOAA), Commerce.

ACTION: Notice of intent to prepare a draft environmental impact statement (DEIS); scoping meetings; request for comments.

SUMMARY: The Caribbean Fishery Management Council (Caribbean Council) intends to prepare a DEIS to describe and analyze management alternatives to be included in an amendment to the Fishery Management Plan (FMP) for the Spiny Lobster Fishery of Puerto Rico and the U.S. Virgin Islands and the FMP for the Spiny Lobster Fishery of the Gulf of Mexico and South Atlantic. These alternatives will consider measures to implement a minimum import size on spiny lobster. The purpose of this notice of intent is to solicit public comments on the scope of issues to be addressed in the DEIS.

DATES: Written comments on the scope of issues to be addressed in the DEIS must be received by the Caribbean Council by November 15, 2007. A series of scoping meetings will be held in October 2007. See SUPPLEMENTARY INFORMATION for the specific dates, times, and locations of the scoping meetings.

ADDRESSES: Written comments on the scope of the DEIS and requests for additional information on the amendment should be sent to the Caribbean Fishery Management Council, 268 Muñoz Rivera Avenue, Suite 1108, San Juan, Puerto Rico 00918; telephone: 787-766-5927; fax: 787-766-6239. Comments may also be sent by e-mail to Graciela.Garcia-Moliner@noaa.gov.

FOR FURTHER INFORMATION CONTACT: Graciela Garcia-Moliner; phone: 787-766-5927; fax: 787-766-6239; e-mail: Graciela.Garcia-Moliner@noaa.gov.

SUPPLEMENTARY INFORMATION: Spiny Lobster (Panulirus argus) in the Southeast Region is managed under a Caribbean Council FMP and a joint Gulf of Mexico and South Atlantic Council FMP. All three Southeast fishery management councils have expressed concern recently about the effects of imports of spiny lobster that are smaller than the size limits in the U.S. spiny lobster FMPs. In many instances, imports are also undersized based on size limits established in the country of origin. Many Caribbean and Central and South American nations share these concerns, and scientific evidence suggests that larvae from one area or region within this species' range may contribute to stock recruitment in other areas or regions.

The Caribbean Council has expressed intent to amend its Spiny Lobster FMP to consider application of a minimum size limit on imported spiny lobster. NMFS believes amendment of the Gulf of Mexico and South Atlantic Spiny Lobster FMP should be addressed concurrently. After conferring with the Gulf of Mexico and South Atlantic Councils, the Caribbean Council was designated as the administrative lead to address spiny lobster issues. Thus, the Caribbean Council will prepare one document, which contains an amendment to the Caribbean Spiny Lobster FMP and also an amendment to the Gulf and South Atlantic Spiny Lobster FMP.

The Caribbean Council will develop a DEIS to describe and analyze management alternatives to implement a minimum size limit on imported spiny lobster. The amendment will provide updates to the best available scientific information regarding Panulirus argus, and based on that information, the Councils will determine what actions and alternatives are necessary to protect spiny lobster throughout its range. Those alternatives may include, but are not limited to: A “no action” alternative regarding the fishery; alternatives to restrict the minimum import size based on carapace length; alternatives to restrict the minimum import size based on tail length; and alternatives to restrict the importation of meat, which is not whole lobster or tailed lobster.

In accordance with NOAA's Administrative Order NAO 216-6, Section 5.02(c), the Caribbean Council has identified this preliminary range of alternatives as a means to initiate discussion for scoping purposes only. This may not represent the full range of alternatives that eventually will be evaluated by the Caribbean Council.

Once the Caribbean Council completes the DEIS associated with the amendment to the Spiny Lobster Fishery of the Caribbean, it must be approved by a majority of the voting members, present and voting, of the Caribbean Council. Similarly, the Gulf of Mexico and South Atlantic Councils Spiny Lobster FMP amendment and associated DEIS must be approved by those Councils. After the Councils approve this document, the DEIS will be submitted to NMFS for filing with the Environmental Protection Agency (EPA). The EPA will publish a notice of availability of the DEIS for public comment in the Federal Register. The DEIS will have a 45-day comment period. This procedure is pursuant to regulations issued by the Caribbean Council on Environmental Quality (CEQ) for implementing the procedural provisions of the National Environmental Policy Act (NEPA; 40 CFR parts 1500-1508) and to NOAA's Administrative Order 216-6 regarding NOAA's compliance with NEPA and the CEQ regulations.

The Councils will consider public comments received on the DEIS in developing the final environmental impact statement (FEIS) and before adopting final management measures for the amendment. The Councils will submit both the final joint amendment and the supporting FEIS to NMFS for review by the Secretary of Commerce (Secretary) under the Magnuson-Stevens Fishery Conservation and Management Act.

NMFS will announce, through a notice published in the Federal Register, the availability of the final joint amendment for public review during the Secretarial review period. During Secretarial review, NMFS will also file the FEIS with the EPA for a final 30-day public comment period. This comment period will be concurrent with the Secretarial review period and will end prior to final agency action to approve, disapprove, or partially approve the final joint amendment.

NMFS will announce, through a notice published in the Federal Register, all public comment periods on the final joint amendment, its proposed implementing regulations, and its associated FEIS. NMFS will consider all public comments received during the Secretarial review period, whether they are on the final amendment, the proposed regulations, or the FEIS, prior to final agency action.

Scoping Meeting Dates, Times, and Locations

All scoping meetings are scheduled to be held from 7 p.m. to 10 p.m. The meetings will be physically accessible to people with disabilities. Request for sign language interpretation or other auxiliary aids should be directed to the Caribbean Council (see ADDRESSES).

October 16—Windward Passage Hotel, Charlotte Amalie, St. Thomas, USVI.

October 17—Buccaneer Hotel, Christiansted, St Croix, USVI.

October 23—Pierre Hotel, De Diego Avenue, San Juan, PR.

October 24—Ponce Golf and Casino Resort, 1150 Caribe Avenue, Ponce, PR.

October 25—Mayaguez Holiday Inn, 2701 Highway #2, Mayaguez, PR.

Authority: 16 U.S.C. 1801 et seq.

Dated: October 11, 2007.
Alan D. Risenhoover,
Director, Office of Sustainable Fisheries, National Marine Fisheries Service.

[FR Doc. 07-5107 Filed 10-11-07; 4:13 pm]

BILLING CODE 3510-22-P